FEDERAL EMERGENCY MANAGEMENT AGENCY

Project Impact: Building Disaster Resistant Communities

AGENCY: Federal Emergency Management Agency (FEMA).

ACTION: Notice of funds and grant availability.

SUMMARY: FEMA gives notice of the availability of $25 million of funds for grants and technical assistance to Project Impact disaster resistance communities and States with Project Impact communities. The funds will also be used for education, training, and partnership development. The funds will be provided to designated Project Impact communities (see attached list).

DATES: Grant funds are available as of March 30, 2001.

ADDRESSES: Approved communities will receive grant application packages by March 31, 2001.

FOR ADDITIONAL INFORMATION, CONTACT: Carol Transou, Federal Emergency Management Agency, 500 C Street, SW., room 402, Washington, DC 20472, (202) 646-3701, (telefax)(301) 646-3231, or (email) carol.transou@fema.gov.

SUPPLEMENTARY INFORMATION: Under Public Law 106-377, 114 Stat. 1441, Department of Veterans Affairs and Housing and Urban Development and Independent Agencies Appropriation Act, 2001, we are issuing a Request for Application (RFA) to implement $25 million for designated Project Impact communities.

Community grants. The community grant is available to designated Project Impact communities to facilitate the development and implementation of a comprehensive, long-term mitigation strategy through collaboration with private sector and non-profit organizations, and with local, State, and Federal government partners. Within this framework, the community grant funds prevention projects (mitigation measures) that result in long-term reductions in disaster losses as well as contribute to the sustainability of the partnership.

Who is eligible for grants? The community which a State has selected, with FEMA concurrence, as a Project Impact community is eligible for a community grant.

What are mitigation measures? Mitigation measures generally are those projects and actions that reduce the potential losses to life and property from natural hazard events in a permanent or long-term manner. Communities shall categorize mitigation projects as: (1) Hazard identification and risk assessment; (2) Adoption of policies or practices for mitigation in existing buildings or new construction; (3) Mitigation for existing buildings; (4) Mitigation of existing infrastructure: such as, utility facilities and transportation systems that are publicly owned and operated on a non-profit basis; (5) activities that lead to building or sustaining public/private partnerships, or that support public awareness of mitigation; and (6) Personnel support .

What is the process for applying? For designated community assistance, communities must submit a grant application package to FEMA. FEMA regions will work with the communities to complete this application package. The community shall submit the grant application to the FEMA Regional Director.

What criteria will FEMA apply to grant applications? For a designated community, we will review and negotiate with the local jurisdiction to determine whether the proposed activities would: (1) reduce the likelihood of future disaster costs under the Robert T. Stafford Disaster Relief and Emergency Assistance Act, and (2) help sustain the community's momentum in broad-based mitigation efforts. Activities the community may pursue are described in the previous section entitled What are mitigation measures.

Dated: March 26, 2001.
Margaret E. Lawless,
Acting Executive Associate,, Director for Mitigation.

[FR Doc. 01-7872 Filed 3-29-01; 8:45 am]

BILLING CODE 6718-04-P